DEPARTMENT OF VETERANS AFFAIRS

Advisory Committee on Former Prisoners of War; Notice of Meeting

The Department of Veterans Affairs gives notice under Public Law 92-463 (Federal Advisory Committee Act) that the Advisory Committee on Former Prisoners of War has scheduled a meeting for April 12-14, 2010, at the Department of Veterans Affairs Central Office, 810 Vermont Avenue, NW., Washington, DC, from 9 a.m. to 4 p.m. each day. The sessions will be held in room 530 on April 12, in room 648 on April 13 and in the California Room at the Capital Hilton Hotel, 1001 16th Street, NW., on April 14. The meeting is open to the public.

The purpose of the Committee is to advise the Secretary of Veterans Affairs on the administration of benefits under Title 38, United States Code, for veterans who are former prisoners of war, and to make recommendations on the needs of such veterans for compensation, health care, and rehabilitation.

On April 12, the Committee will receive briefings on the Robert E. Mitchell Center, Employee Education System and Veterans Health Administration Overview of Former Prisoners of War Clinical Health Care. On April 13, the Committee will receive briefings on Compensation and Pension, Veterans Health Initiative and Veterans Health Administration Update. In the afternoon, the Committee will discuss its 2009 recommendations and VA's responses. On April 14, the Committee will break out into medical and administrative working groups to complete their interim report for the Committee's final report.

No time will be allocated at this meeting for receiving oral presentations from the public. Members of the public may attend the meeting and may also submit written statements for review by the Committee in advance of the meeting to Mr. Jim Adams, Executive Assistant, Compensation and Pension Service, Department of Veterans Affairs, 810 Vermont Avenue, NW., Washington, DC 20420. Individuals who wish to attend the meeting or seeking additional information should contact Mr. Adams at (202) 461-9659 or e-mail at jim.adams1@va.gov.

Dated: March 25, 2010.
By Direction of the Secretary.
Vivian Drake,
Acting Committee Management Officer.

[FR Doc. 2010-7063 Filed 3-29-10; 8:45 am]

BILLING CODE P